DEPARTMENT OF ENERGY

Federal Energy Regulatory Commission

[Docket No. RP00-165-000]

Williston Basin Interstate Pipeline Company; Notice of Tariff Filing

January 21, 2000.

Take notice that on January 18, 2000, Williston Basin Interstate Pipeline Company (Williston Basin), tendered for filing as part of its FERC Gas Tariff, Second Revised Volume No. 1, certain revised tariff sheets, to become effective February 1, 2000.

Williston Basin states that the revised tariff sheets are being filed pursuant to Order Nos. 636, et seq. and Subsection 39.3.4 of Williston Basin's FERC Gas Tariff, Second Revised Volume No. 1, to implement the recovery of $2,996,250 of Gas Supply Realignment Transition costs (GSR Costs).

Williston Basin further states that it is proposing to recover 93.40 percent of the costs through a new reservation charge surcharge of 43.714 cents per equivalent dekatherm of Maximum Daily Delivery Quantity applicable to firm transportation service and 6.60 percent through a new GSR unit rate of 0.441 cents per dekatherm applicable to Rate Schedule IT-1.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-1954 Filed 1-26-00; 8:45 am]

BILLING CODE 6717-01-M